DEPARTMENT OF COMMERCE

National Oceanic and Atmospheric Administration

RIN 0648-XD794

Pacific Fishery Management Council; Nearshore Species' Assessment Workshop

AGENCY: National Marine Fisheries Service (NMFS), National Oceanic and Atmospheric Administration (NOAA), Commerce.

ACTION: Notice of public workshop.

SUMMARY: The Pacific Fishery Management Council (Pacific Council) will sponsor a nearshore species assessment workshop to evaluate catch data and proposed catch-per-unit-effort (CPUE) indices for 2015 west coast groundfish stock assessments for black rockfish, China rockfish, and kelp greenling off Oregon. The Nearshore Species Assessment Workshop is open to the public.

DATES: The Nearshore Species Assessment Workshop will commence at 1 p.m. PT, Tuesday, March 31, 2015 and will continue through 5:30 p.m. or as necessary to complete business for the day. The workshop will continue on Wednesday, April 1, 2015 and Thursday, April 2, 2015 beginning at 8:30 a.m. and ending at 5:30 p.m. each day, or as necessary to complete business.

ADDRESSES: The Nearshore Species Assessment Workshop will be held at the Sheraton Portland Airport Hotel, 8235 NE Airport Way, Portland, OR 97220; telephone: (503) 281-2500. The workshop will be held in the Cascade A/B Room on March 31 and April 1, and will move to the Garden A/B Room on April 2.

Council address: Pacific Council, 7700 NE Ambassador Place, Suite 101, Portland, OR 97220-1384.

FOR FURTHER INFORMATION CONTACT: Mr. John DeVore, Pacific Council; telephone: (503) 820-2413.

SUPPLEMENTARY INFORMATION: The purpose of the Nearshore Species Assessment Workshop is to evaluate available catch and effort data proposed for developing CPUE indices to inform 2015 groundfish stock assessments for black and China rockfish, as well as the population of kelp greenling off Oregon. Recommendations regarding the data available for use in developing CPUE indices for black rockfish, China rockfish, and kelp greenling will be forwarded to Stock Assessment Teams that will be conducting the assessments for their consideration in preparing these assessments scheduled for formal review later in 2015. Other data and approaches to assessing the abundance and productivity of west coast black rockfish, China rockfish, and kelp greenling may also be discussed at the Nearshore Species Assessment Workshop. No management actions will be decided in this workshop.

Although non-emergency issues not identified in the workshop agenda may come before the workshop participants for discussion, those issues may not be the subject of formal action during this workshop. Formal action at the workshop will be restricted to those issues specifically listed in this notice and any issues arising after publication of this notice that require emergency action under section 305(c) of the Magnuson-Stevens Fishery Conservation and Management Act, provided the public has been notified of the workshop participants' intent to take final action to address the emergency.

Special Accommodations

This meeting is physically accessible to people with disabilities. Requests for auxiliary aids should be directed to Mr. Kris Kleinschmidt at (503) 820-2425 at least 5 days prior to the workshop date.

Dated: March 6, 2015.
Tracey L. Thompson,
Acting Deputy Director, Office of Sustainable Fisheries, National Marine Fisheries Service.

[FR Doc. 2015-05586 Filed 3-11-15; 8:45 am]

BILLING CODE 3510-22-P